SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: May 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. Village of Cooperstown—Water Department, GF Certificate No. GF-201905030, Village of Cooperstown, Otsego County, N.Y.; Otsego Lake; Issue Date: May 7, 2019.

2. Corey Creek Golf Club, GF Certificate No. GF-201905031, Richmond Township, Tioga County, Pa.; Irrigation Pond; Issue Date: May 7, 2019.

3. Huntsinger Farms, Inc., GF Certificate No. GF-201905032, Hegins and Hubley Townships, Schuylkill County, Pa.; Deep Creek 1, Deep Creek 2, Pine Creek 1, Pine Creek 2, and Monroes Pond; Issue Date: May 7, 2019.

Authority: Pub. L. 91-575, 84 Stat. 1509 et seq., 18 CFR parts 806 and 808.

Dated: June 10, 2019.
Jason E. Oyler,
General Counsel and Secretary to the Commission.

[FR Doc. 2019-12511 Filed 6-12-19; 8:45 am]

BILLING CODE 7040-01-P